ENVIRONMENTAL PROTECTION AGENCY

40 CFR Part 52

[EPA-R03-OAR-2017-0555; FRL-9971-57-Region 3]

Approval and Promulgation of Air Quality Implementation Plans; West Virginia; Removal of Source-Specific Requirements for Permanently Shutdown Facilities

AGENCY: Environmental Protection Agency (EPA).

ACTION: Proposed rule.

SUMMARY: The Environmental Protection Agency (EPA) is proposing to approve a state implementation plan (SIP) revision submitted by the State of West Virginia. This revision pertains to the removal of source-specific SIP requirements for the following five facilities in West Virginia that have permanently shutdown: Mountaineer Carbon Company; Standard Lafarge; Follansbee Steel Corporation; International Mill Service, Inc.; and Columbian Chemicals Company. These sources have permanently ceased operation; therefore, SIP requirements for these sources are obsolete and no longer necessary for attaining and maintaining the national ambient air quality standards (NAAQS). This action is being taken under the Clean Air Act (CAA).

DATES: Written comments must be received on or before January 4, 2018.

ADDRESSES: Submit your comments, identified by Docket ID No. EPA-R03-OAR-2017-0555 at http://www.regulations.gov, or via email to pino.maria@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Irene Shandruk, (215) 814-2166, or by email at shandruk.irene@epa.gov.

SUPPLEMENTARY INFORMATION:

I. Background

The West Virginia SIP at 40 Code of Federal Regulations (CFR) part 52, subpart XX, § 52.2520(d) contains source-specific requirements, which were incorporated into the West Virginia SIP over the course of many years to allow the State to demonstrate attainment with various NAAQS. Subsequently, several of these sources have permanently ceased operation rendering source-specific requirements for these facilities obsolete.

SIP revisions pertaining to the removal of obsolete SIP requirements for sources that have permanently shutdown are considered administrative, non-substantive changes. If a source has permanently shutdown, the emissions are permanently reduced to zero, so removing source-specific SIP requirements for that source will not interfere with attainment and maintenance of any NAAQS, reasonable further progress or any other applicable CAA requirement. See CAA section 110(l).

II. Summary of SIP Revision and EPA Analysis

On August 25, 2017, West Virginia submitted a SIP revision requesting that the consent orders for the sources listed in Table 1 be removed from the West Virginia SIP located at 40 CFR part 52, subpart XX, § 52.2520(d).

Table 1—Source-Specific Requirements Proposed for Removal From the West Virginia SIP
Source name | Order | State effective date | EPA Approval date/ Federal Register (FR) citation
Mountaineer Carbon Company | Consent Order | 7/2/82 | 9/1/82, 47 FR 38532
Standard Lafarge | Consent Order CO-SIP-91-30 | 11/14/91 | 7/25/94, 59 FR 37696
Follansbee Steel Corporation | Consent Order CO-SIP-91-31 | 11/14/91 | 7/25/94, 59 FR 37696
International Mill Service, Inc | Consent Order CO-SIP-91-33 | 11/14/91 | 7/25/94, 59 FR 37696
Columbian Chemicals Company | Consent Order CO-SIP-2000-3 | 1/31/00 | 8/2/00, 65 FR 47339

According to West Virginia, the five facilities listed in Table 1 have permanently shutdown and ceased operation. West Virginia's August 25, 2017 submittal lists the dates of facility closures and closure inspections, and provides relevant documentation verifying the permanent closure of these sources (see Table 2). EPA has confirmed that all permits, where applicable, have been surrendered and are inactive (see Table 2). Because these five sources have permanently ceased operation and their emissions have been permanently reduced to zero, their source-specific SIP requirements have been rendered obsolete.

Table 2—Closure Dates and Closure Inspection Dates for Five Permanently Shutdown Facilities
Source name | Source location | Title V facility | Permanent closure date | Verification of closure inspection conducted by West Virginia | Permit surrendered
Mountaineer Carbon Company | Marshall County | Yes | 10/9/2015 | 6/2/2017 | Yes.
Standard Lafarge | Hancock County | No | 7/20/2011 | 6/2/2017 | Yes.
Follansbee Steel Corporation | Brooke County | No | 7/12/2012 | 5/31/2017 | Not applicable.¹
International Mill Service, Inc | Brooke County | No | 6/27/2000 | 5/31/2017 | Not applicable.²
Columbian Chemicals Company | Marshall County | Yes | 10/9/2015 | 6/2/2017 | Yes.
¹ Follansbee Steel Corporation was grandfathered into the West Virginia Department of Environmental Protection—Division of Air Quality's (WVDEP—DAQ) permitting program. Therefore, no permits were ever issued for this facility.
² International Mill Service, Inc. was grandfathered into the WVDEP—DAQ permitting program. Therefore, no permits were ever issued for this facility.

III. Proposed Action

EPA has reviewed West Virginia's SIP revision seeking removal of obsolete source-specific SIP requirements from the West Virginia SIP. These five sources have permanently ceased operation, rendering source-specific SIP requirements for these sources obsolete. EPA has confirmed that all permits have been surrendered and are inactive. Therefore, EPA is proposing to approve the West Virginia August 25, 2017 SIP revision, which sought removal of source-specific revisions related to five now closed facilities in accordance with section 110 of the CAA. EPA is soliciting public comments on the issues discussed in this document. These comments will be considered before taking final action.

IV. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to removal of source-specific requirements from the West Virginia SIP, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Incorporation by reference, Lead, Nitrogen dioxide, Ozone, Particulate matter, Reporting and recordkeeping requirements, Sulfur oxides, Volatile organic compounds.

Authority: 42 U.S.C. 7401 et seq.

Dated: November 22, 2017.
Cosmo Servidio,
Regional Administrator, Region III.

[FR Doc. 2017-26183 Filed 12-4-17; 8:45 am]

BILLING CODE 6560-50-P